DEPARTMENT OF THE INTERIOR

Bureau of Land Management

[16X L1109AF LLUT980300-L13100000.XZ0000-24-1A]

Utah Resource Advisory Council Meeting

AGENCY: Bureau of Land Management, Interior.

ACTION: Notice of meeting.

SUMMARY: In accordance with the Federal Land Policy and Management Act, the Bureau of Land Management's (BLM) Utah Resource Advisory Council (RAC) will host a meeting.

DATES: On July 27, the RAC will take a field tour of the Three Creeks area in Rich County, Utah from 7:00 a.m. to 7:00 p.m. Attendance is optional. On July 28, the RAC will meet from 9:00 a.m. to 4:00 p.m.

ADDRESSES: On July 28, the RAC will meet at the BLM Salt Lake Field Office, 2370 S. Decker Lake Blvd., West Valley City, Utah 84119.

FOR FURTHER INFORMATION CONTACT: If you wish to attend the field tour, contact Lola Bird, Public Affairs Specialist, Bureau of Land Management, Utah State Office, 440 West 200 South, Suite 500, Salt Lake City, Utah 84101; phone (801) 539-4033; or, lbird@blm.gov no later than Wednesday, July 20, 2016.

SUPPLEMENTARY INFORMATION: Agenda topics will include the Three Creeks Grazing Allotment Environmental Assessment, Greater sage-grouse plan implementation, BLM-Utah recreation fee donation policy and the San Rafael Desert Master Leasing Plan.

A half-hour public comment period will take place on July 28 from 2:00-2:30 p.m., where the public may address the RAC. Written comments may also be sent to the BLM at the address listed in the FOR FURTHER INFORMATION CONTACT section of this notice.

The meeting is open to the public; however, transportation, lodging, and meals are the responsibility of the participating individuals.

Persons who use a telecommunications device for the deaf (TDD) may call the Federal Information Relay Service (FIRS) at 1-800-877-8339 to leave a message or question for the above individual. The FIRS is available 24 hours a day, seven days a week. Replies are provided during normal business hours.

Authority: 43 CFR 1784.4-1.

Jenna Whitlock,
Acting State Director.

[FR Doc. 2016-16433 Filed 7-11-16; 8:45 am]

BILLING CODE 4310-DQ-P